DEPARTMENT OF COMMERCE

National Oceanic and Atmospheric Administration

[RTID 0648-XA547]

North Pacific Fishery Management Council; Public Meeting

AGENCY: National Marine Fisheries Service (NMFS), National Oceanic and Atmospheric Administration (NOAA), Commerce.

ACTION: Notice of public meeting.

SUMMARY: The North Pacific Fishery Management Council (NPFMC) Charter Halibut Management Committee will meet via webconference on October 27, 2020.

DATES: The meeting will be held on Tuesday, October 27, 2020 from 9 a.m. to 3 p.m., Alaska time.

ADDRESSES: The meeting will be a webconference. Join online through the link at https://meetings.npfmc.org/Meeting/Details/1568.

Council address: North Pacific Fishery Management Council, 1007 W 3rd Ave, Anchorage, AK 99501-2252; telephone: (907) 271-2809. Instructions for attending the meeting are given under SUPPLEMENTARY INFORMATION, below.

FOR FURTHER INFORMATION CONTACT: Jim Armstrong, Council staff; phone: (907) 271-2809 and email: james.armstrong@noaa.gov. For technical support please contact administrative Council staff, email: npfmc.admin@noaa.gov.

SUPPLEMENTARY INFORMATION:

Agenda

Tuesday, October 27, 2020

The purpose of the Charter Halibut Management Committee meeting is to identify a range of potential management measures for the Area 2C and Area 3A charter halibut fisheries in 2021 using the management measures in place for 2020 as a baseline. For Area 2C, the baseline management measure includes regulations applicable to charter halibut fishing in all areas, and a daily limit of one fish less than or equal to 45 inches or greater than or equal to 80 inches. For Area 3A, the baseline management measure includes regulations applicable to charter halibut fishing in all areas, no annual limit, a daily limit of two fish, one fish of any size, and a second fish which must be 32 inches or less in length. No days are closed to charter halibut fishing. Committee recommendations will be incorporated into an analysis for Council review in December 2020. The Council will recommend preferred management measures for consideration by the International Pacific Halibut commission at its January 2021 meeting, for implementation in 2021. The agenda is subject to change, and the latest version will be posted at https://meetings.npfmc.org/Meeting/Details/1568 prior to the meeting, along with meeting materials.

Connection Information

You can attend the meeting online using a computer, tablet, or smart phone; or by phone only. Connection information will be posted online at: https://meetings.npfmc.org/Meeting/Details/1568.

Public Comment

Public comment letters will be accepted and should be submitted electronically to https://meetings.npfmc.org/Meeting/Details/1568.

Authority: 16 U.S.C. 1801 et seq.

Dated: October 5, 2020.
Tracey L. Thompson,
Acting Deputy Director, Office of Sustainable Fisheries, National Marine Fisheries Service.

[FR Doc. 2020-22302 Filed 10-7-20; 8:45 am]

BILLING CODE 3510-22-P